DEPARTMENT OF HEALTH AND HUMAN SERVICES

National Institutes of Health

Center for Scientific Review; Amended Notice of Meeting

Notice is hereby given of a change in the meeting of the Center for Scientific Review Special Emphasis Panel, November 14, 2014, 12:00 p.m. to November 14, 2014, 02:00 p.m., National Institutes of Health, 6701 Rockledge Drive, Bethesda, MD, 20892 which was published in the Federal Register on October 22, 2014, 78 FR 63136.

The meeting will be held on November 11, 2014 instead of November 14, 2014. The meeting time and location remains the same. The meeting is closed to the public.

Dated: October 23, 2014.
Carolyn Baum,
Program Analyst, Office of Federal Advisory Committee Policy.

[FR Doc. 2014-25648 Filed 10-28-14; 8:45 am]

BILLING CODE 4140-01-P